DEPARTMENT OF COMMERCE

National Oceanic and Atmospheric Administration

RIN 0648-XE994

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday, and Thursday, November 15, 16, and 17, 2016, beginning at 9 a.m. on November 15, 8:30 a.m. on November 16, and 8:30 a.m. on November 17.

ADDRESSES: The meeting will be held at the Hotel Viking, 1 Bellevue Avenue, Newport, RI 02840; telephone: (401) 847-3300; online at www.hotelviking.com.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, November 15, 2016

After introductions and brief announcements, the meeting will begin with reports from the Council Chairman and Executive Director, NMFS's Regional Administrator for the Greater Atlantic Regional Office (GARFO), liaisons from the Northeast Fisheries Science Center and Mid-Atlantic Fishery Management Council, representatives from NOAA General Counsel and the Office of Law Enforcement, and staff from the Atlantic States Marine Fisheries Commission and the U.S. Coast Guard. Following these reports, the Council will hear from its Vessel Monitoring System (VMS)/Enforcement Committee, which will: (1) Update the Council on work being done to develop a codend certification program; (2) provide a brief overview of the Anthropocene Institute's mapping project; and (3) provide initial input on measures under consideration in Atlantic Herring Framework Adjustment 5 and Atlantic Herring Amendment 8. Next, the Skate Committee will present a Skate Monitoring Report with an overview on stock status, landings, and revenue for the seven skate species being managed by the Council. Afterward, the Council is expected to approve a scoping document for Amendment 5 to the Northeast Skate Complex Fishery Management Plan (FMP) to consider limited access in the fishery. Next, the Council will receive a presentation from the NMFS Highly Migratory Species (HMS) staff on Draft Amendment 5b to the 2006 Consolidated HMS FMP, which is being developed to end overfishing and rebuild dusky sharks.

After a lunch break, the Council will hear from its Monkfish Committee and take final action on Framework Adjustment 10 to the Monkfish FMP, which will set fishing year 2017-19 specifications and, if needed, additional measures. Next, the Council will receive a progress report from its Small Mesh Multispecies (Whiting) Committee regarding limited access options being developed for Amendment 22. The Council will close out the day with a Habitat Committee report, which will include an overview of the preliminary impacts analysis for the Council's Omnibus Deep-Sea Coral Amendment. The Council also will discuss Coral Amendment alternatives that overlap with the new Northeast Canyons and Seamounts Marine National Monument and, finally, consider a management action to implement fishing regulations in the monument area. Following adjournment, NMFS will hold a public hearing at 5:30 p.m. in the Council meeting room on Draft Amendment 5b to the 2006 Consolidated HMS FMP.

Wednesday, November 16, 2016

The second day of the meeting will begin with a report from the Scientific and Statistical Committee (SSC), which will present Atlantic sea scallop overfishing limit (OFL) and acceptable biological catch (ABC) recommendations for the 2017 scallop fishing year and OFL and ABC defaults for the 2018 fishing year. The SSC also may discuss issues related to improving control rules and ABC recommendations for groundfish and other stocks. The Scallop Committee report will directly follow the SSC. At this point, the Council will take final action on Framework Adjustment 28 to the Atlantic Sea Scallop FMP, which includes: (1) Specifications for fishing year 2017 with default measures for 2018; (2) a measure to restrict the possession of shell stock inshore of the days-at-sea demarcation line north of 42° 20' N; (3) modifications to the process for setting scallop fishery annual catch limits (ACLs); and (4) modifications to the Closed Area I Scallop Access Area boundary to be consistent with potential changes to habitat and groundfish mortality closed areas. More specifically, the 2017 specifications and 2018 default measures include: (a) Setting ABCs, ACLs, days-at-sea, and access-area allocations for both limited access (LA) and limited access general category (LAGC) vessels; (b) determining the hard total allowable catch (TAC) for the Northern Gulf of Maine Management Area; (c) setting the target TAC for the LAGC incidental catch; and (d) specifying set-aside amounts for the scallop observer and research set-aside programs. Next, members of the public will be able to speak during an open comment period on issues that relate to Council business but are not included on the published agenda for this meeting. The Council asks the public to limit remarks to 3-5 minutes.

Following a lunch break, the Council will go into its Groundfish Committee report and take final action on most of the measures in Framework Adjustment 56 to the Northeast Multispecies FMP. These include: (1) 2017 U.S./Canada specifications; (2) a scallop fishery sub-ACL for northern windowpane flounder; (3) potential changes to the scallop fishery accountability measure (AM) triggers for Georges Bank yellowtail flounder; (4) a potential increase to the sub-ACL for Georges Bank haddock for the Atlantic herring midwater trawl fishery; and (5) a timely notification process for announcing recreational measures. The Council is expected to take final action on 2017-19 witch flounder specifications—the last component of Framework 56 -- at its January meeting. In another groundfish-related item for this November meeting, the Council also will review a draft scoping notice for a Groundfish Monitoring Program Amendment. Closing out the day, the Council will receive a NMFS briefing on revisions to National Standard Guidelines 1, 3, and 7 to the Magnuson-Stevens Fishery Conservation and Management Act.

Thursday, November 17, 2016

The third day of the meeting will begin with a discussion of 2017 Council priorities, followed by a final vote on the resulting list. Next, the Council will receive a NMFS briefing on the agency's comprehensive review of observer safety issues. Then, the Council will take up the Atlantic Herring Committee report. The Council may take final action on Framework Adjustment 5 to the Atlantic Herring FMP, which includes alternatives to modify Georges Bank haddock bycatch AMs in the Atlantic herring midwater trawl fishery. The Council also will approve the agenda for a second Management Strategy Evaluation (MSE) workshop, which will be held Dec. 7-8 as part of the MSE process under Amendment 8 to develop ABC control rule alternatives for the Atlantic herring fishery. Furthermore, the Council will receive an update on the development of Amendment 8 measures to address herring localized depletion.

Following a lunch break, the Council will resume the Atlantic Herring Committee discussion if needed and then conclude the meeting with “other business.”

Although non-emergency issues not contained in this agenda may come before this Council for discussion, those issues may not be the subject of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: October 24, 2016.
Tracey L. Thompson,
Acting Deputy Director, Office of Sustainable Fisheries, National Marine Fisheries Service.

[FR Doc. 2016-25999 Filed 10-26-16; 8:45 am]

BILLING CODE 3510-22-P